DEPARTMENT OF COMMERCE

United States Patent and Trademark Office

International Design Applications (Hague Agreement)

ACTION: Proposed extension of a continuing information collection; comment request.

SUMMARY: The United States Patent and Trademark Office (USPTO), as required by the Paperwork Reduction Act of 1995, invites comments on a proposed extension of an existing collection: 0651-0075 (International Design Applications (Hague Agreement)).

DATES: Written comments must be submitted on or before August 29, 2017.

ADDRESSES: You may submit comments by any of the following methods:

Email: InformationCollection@uspto.gov. Include “0651-0075 comment” in the subject line of the message.

Federal Rulemaking Portal: http://www.regulations.gov.

Mail: Marcie Lovett, Records and Information Governance Division Director, Office of the Chief Technology Officer, United States Patent and Trademark Office, P.O. Box 1450, Alexandria, VA 22313-1450.

FOR FURTHER INFORMATION CONTACT: Requests for additional information should be directed to Rafael Bacares, Senior Legal Advisor, Office of Patent Legal Administration, United States Patent and Trademark Office, P.O. Box 1450, Alexandria, VA 22313-1450; by telephone at 571-272-3276; or by email at Rafael.Bacares@uspto.gov with “0651-0075 comment” in the subject line. Additional information about this collection is also available at http://www.reginfo.gov under “Information Collection Review.”

SUPPLEMENTARY INFORMATION:

Abstract

The Patent Law Treaties Implementation Act of 2012 (PLTIA) amends the patent laws to implement the provisions of the Geneva Act of the Hague Agreement Concerning International Registration of Industrial Designs (hereinafter “Hague Agreement”) in title 1, and the Patent Law Treaty (PLT) in title 2. The Hague Agreement is an international agreement that enables an applicant to file a single international design application which may have the effect of an application for protection for the design(s) in countries and/or intergovernmental organizations that are Parties to the Hague Agreement (the “Contracting Parties”) designated in the application. The United States is a Contracting Party to the Hague Agreement, which took effect with respect to the United States on May 13, 2015. The Hague Agreement is administered by the International Bureau (IB) of World Intellectual Property Organization (WIPO) located in Geneva, Switzerland.

Thus, under the Hague Agreement, a U.S. applicant could file an international design application in English “indirectly” through the U.S. Patent and Trademark Office (“USPTO”), which will forward the application to the IB or “directly” with the IB. The industrial design or designs will be eligible for protection in all the Contracting Parties designated by the applicant.

The IB ascertains whether the international design application complies with formal requirements, registers the international design in the International register, and publishes the international registration in the International Designs Bulletin. The international registration contains all of the data of the international application, any reproduction of the industrial design, date of the international registration, number of the international registration, and relevant class of the International Classification.

The IB will provide a copy of the publication of the international registration to each Contracting party designated by the applicant. A designated Contracting Party may perform a substantive examination of the design application. The USPTO will perform a substantive examination for patentability of the international design application, as in the case of regular U.S. design applications.

The Hague Agreement enables applicants from a Contracting Party to obtain protection of their designs with minimal formality and expense. Additionally, under the Hague Agreement, the international registration can be centrally maintained by the IB. For example, through the IB, applicants can record changes of their representatives or changes in ownership, and renew their international registration.

II. Method of Collection

Most of the items in this collection can be submitted electronically through EFS-Web. The items can also be submitted by mail.

III. Data

Collection Name: International Design Applications (Hague Agreement).

OMB Number: 0651-0075.

IC Instruments and Forms: WIPO DM/1.

Type of Review: Extension of a Previously Reviewed Information Collection.

Affected Public: Business or other for-profits; not-for-profit institutions.

Estimated Number of Responses: 556 responses per year.

Estimated Time per Response: The USPTO estimates that the response time for activities related to International Design Applications will take the public between approximately 15 minutes (0.25 hours) to 6 hours to complete. (See Table 1.) This includes the time to gather the necessary information, create the document, and submit the completed request to the USPTO. The USPTO calculates that, on balance, it takes the same amount of time to do this, regardless of whether the public is submitting the information in paper form or electronically.

Estimated Total Response Burden Hours: 1,898.00 hours.

Estimated Total Annual Respondent (Hourly) Cost Burden: $778,180. The USPTO expects that an attorney will complete these applications. The professional hourly rate for attorneys is $410. This rate is established by estimates in the 2015 Report of the Economic Survey, published by the Committee on Economics of Legal Practice of the American Intellectual Property Law Association. Using this hourly rate, the USPTO estimates that the total respondent cost burden for this collection is $778,180 per year.

Table 1—Annual Hourly Cost Burden
IC No. | Item | Estimated time for response (hours) | Estimated annual responses | Estimated annual burden hours | Rate ($/hr) | Estimated annual burden
|  | (a) | (b) | (a) × (b) = (c) | (d) | (c) × (d) = (e)
1 | Applicant for International Registration | 6.00 | 156 | 936 | $410.00 | $383,750.00
2 | Claim and Reproductions (Drawings) | 4.00 | 156 | 624 | 410.00 | 255,840.00
3 | Transmittal Letter | 2.00 | 140 | 280 | 410.00 | 114,800.00
4 | Appointment of a Representative | 0.25 (15 minutes) | 15 | 3.75 | 410.00 | 1,537.50
5 | Petition to Excuse a Failure to Comply with a Time Limit | 4.00 | 1 | 4 | 410.00 | 1,640.00
6 | Petition to Convert to a Design Application under 35 U.S.C. Chapter 16 | 4.00 | 1 | 4 | 410.00 | 1,640.00
7 | Petition to Review a Filing Date | 4.00 | 2 | 8 | 410.00 | 3,280.00
8 | Fee Authorization | 0.25 (15 minutes) | 31 | 7.75 | 410.00 | 3,177.50
9 | Petitions to the Commissioner | 4.00 | 1 | 4 | 410.00 | 1,640.00
10 | Transmittal of Issue Fee to UPSTO for an International Design Application | 0.50 (30 minutes) | 1 | 0.50 | 410.00 | 205.00
11 | Declaration on Inventorship for Purposes of Designation of the United States | 0.50 (30 minutes) | 46 | 23 | 410.00 | 9,430.00
12 | Substitute Statement in Lieu of a Declaration of Inventorship for the Purposes of Designating the United States | 0.50 (30 minutes) | 1 | 0.50 | 410.00 | 205.00
13 | Assignment Cover Sheet | 0.50 (30 minutes) | 5 | 0.50 | 410.00 | 1,025.00
Totals |  |  | 556 | 1,898.00 |  | 778,180.00

Estimated Total Annual (Non-hour) Respondent Cost Burden: $424,245.90.

There are no maintenance, operation, capital start-up, or recordkeeping costs associated with this collection. However, this collection does have annual (non-hour) costs in the form of postage costs and filing fees.

Although the USPTO prefers that the items in this collection be submitted electronically, the items may be submitted by mail through the United States Postal Service (USPS). The USPTO estimates that the average cost for a paper submission will be $5.95 and that 62 submissions will be mailed to the USPTO per year.

Table 2—Postage Costs
IC No. | Item | Estimated annual responses | Postage costs | Estimated total postage costs
|  | (a) | (b) | (c) (a) × (b)
1 | Applicant for International Registration | 1 | $5.95 | $5.95
2 | Claim and Reproductions (Drawings) | 1 | 5.95 | 5.95
3 | Transmittal Letter | 1 | 5.95 | 5.95
4 | Appointment of a Representative | 1 | 5.95 | 5.95
5 | Petition to Excuse a Failure to Comply with a Time Limit | 1 | 5.95 | 5.95
6 | Petition to Convert to a Design Application under 35 U.S.C. Chapter 16 | 1 | 5.95 | 5.95
7 | Petition to Review a Filing Date | 1 | 5.95 | 5.95
8 | Fee Authorization | 1 | 5.95 | 5.95
9 | Petitions to the Commissioner | 1 | 5.95 | 5.95
10 | Transmittal of Issue Fee to USPTO for an International Design Application | 1 | 5.95 | 5.95
11 | Declaration on Inventorship for Purposes of Designation of the United States | 46 | 5.95 | 273.70
12 | Substitute Statement in Lieu of a Declaration of Inventorship for the Purposes of Designating the United States | 1 | 5.95 | 5.95
13 | Assignment Cover Sheet | 5 | 5.95 | 29.75
Total Postage Costs | 62 |  | 368.90

This collection also contains an annual (non-hour) cost burden in the way of filing fees. The total estimated filing costs for this collection is $423,876 detailed in Table 3 below.

Table 3—Filing Fees
IC No. | Item | Estimated annual response | Filing fee amount | Total filing fee cost
|  | (a) | (b) | (c) (a) × (b)
1 | Application for International Registration (electronic)—Average Fee per registration to WIPO (collecting for WIPO) | 155 | $1,766.00 | $273,730.00
1 | Application for International Registration (electronic)—Designation Fee (first part) for the U.S. (collecting for WIPO) (large entity) | 155 | 760.00 | 117,800.00
1 | Application for International Registration (electronic)—Designation Fee (first part) for the U.S. (collecting for WIPO) (small entity) | 1 | 380.00 | 380.00
1 | Application for International Registration (electronic)—Designation Fee (first part) for the U.S. (collecting for WIPO) (micro entity) | 1 | 190.00 | 190.00
1 | Application for International Registration (electronic)—Transmittal Fee (set by and collected by USPTO) (large entity) | 155 | 120.00 | 18,600.00
1 | Application for International Registration (electronic)—Transmittal Fee (set by and collected by USPTO) (small entity) | 1 | 120.00 | 120.00
1 | Application for International Registration (electronic)—Transmittal Fee (set by and collected by USPTO) (micro entity) | 1 | 120.00 | 120.00
1 | Application for International Registration (non-electronic)—Average Fee per registration to WIPO (collecting for WIPO) | 1 | 1,766.00 | 1,766.00
1 | Application for International Registration (non-electronic)—Designation Fee (first part) for the U.S. (collecting for WIPO) (large entity) | 1 | 760.00 | 760.00
1 | Application for International Registration (non-electronic)—Designation Fee (first part) for the U.S. (collecting for WIPO) (small entity) | 1 | 380.00 | 380.00
1 | Application for International Registration (non-electronic)—Designation Fee (first part) for the U.S. (collecting for WIPO) (micro entity) | 1 | 190.00 | 190.00
1 | Application for International Registration (non-electronic)—Transmittal Fee (set by and collected by USPTO) (large entity) | 1 | 120.00 | 120.00
1 | Application for International Registration (non-electronic)—Transmittal Fee (set by and collected by USPTO) (small entity) | 1 | 120.00 | 120.00
1 | Application for International Registration (non-electronic)—Transmittal Fee (set by and collected by USPTO) (micro entity) | 1 | 120.00 | 120.00
5 | Petition to Excuse a Failure to Comply with a Time Limit (electronic) (large entity) | 1 | 1,700.00 | 1,700.00
5 | Petition to Excuse a Failure to Comply with a Time Limit (electronic) (small entity) | 1 | 850.00 | 850.00
5 | Petition to Excuse a Failure to Comply with a Time Limit (electronic) (micro entity) | 1 | 850.00 | 850.00
5 | Petition to Excuse a Failure to Comply with a Time Limit (non-electronic) (large entity) | 1 | 1,700.00 | 1,700.00
5 | Petition to Excuse a Failure to Comply with a Time Limit (non-electronic) (small entity) | 1 | 850.00 | 850.00
5 | Petition to Excuse a Failure to Comply with a Time Limit (non-electronic) (micro entity) | 1 | 850.00 | 850.00
6 | Petition to Convert to a Design Application under 35 U.S.C. Chapter 16 (electronic) | 1 | 180.00 | 180.00
7 | Petition to Review a Filing Date (electronic) (large entity) | 2 | 400.00 | 400.00
7 | Petition to Review a Filing Date (electronic) (small entity) | 1 | 200.00 | 200.00
7 | Petition to Review a Filing Date (electronic) (micro entity) | 1 | 100.00 | 100.00
7 | Petition to Review a Filing Date (non-electronic) (large entity) | 1 | 400.00 | 400.00
7 | Petition to Review a Filing Date (non-electronic) (small entity) | 1 | 200.00 | 200.00
7 | Petition to Review a Filing Date (non-electronic) (micro entity) | 1 | 100.00 | 100.00
9 | Petitions to Commissioner (electronic) (large entity) | 1 | 400.00 | 400.00
9 | Petitions to Commissioner (electronic) (small entity) | 1 | 200.00 | 200.00
9 | Petitions to Commissioner (electronic) (micro entity) | 1 | 100.00 | 100.00
| Totals | 493 |  | 423,876.00

The USPTO estimates that the total annual (non-hour) respondent cost burden for this collection in the forms of postage costs and filing fees is estimated to be approximately be $424,245.90 per year ($368.90 in postage costs and $423,876 in filing fees).

IV. Request for Comments

Comments submitted in response to this notice will be summarized and/or included in the USPTO's request for OMB approval. All comments will become a matter of public record.

Comments are invited on:

(a) Whether the proposed collection of information is necessary for the proper performance of the functions of the agency, including whether the information shall have practical utility;

(b) The accuracy of the agency's estimate of the burden (including hours and cost) of the proposed collection of information;

(c) Ways to enhance the quality, utility, and clarity of the information to be collected; and

(d) Ways to minimize the burden of the collection of information on respondents, e.g., the use of automated collection techniques or other forms of information technology.

Marcie Lovett,
Records and Information Governance Division Director, USPTO, Office of the Chief Technology Officer.

[FR Doc. 2017-13716 Filed 6-29-17; 8:45 am]

BILLING CODE P